DEPARTMENT OF THE INTERIOR

National Park Service

[NPS-WASO-NAGPRA-22473; PPWOCRADN0-PCU00RP14.R50000]

Notice of Intent To Repatriate Cultural Items: University of Oregon Museum of Natural and Cultural History, Eugene, OR

AGENCY: National Park Service, Interior.

ACTION: Notice.

SUMMARY: The University of Oregon Museum of Natural and Cultural History, in consultation with the appropriate Indian tribes or Native Hawaiian organizations, has determined that the cultural items listed in this notice meet the definition of unassociated funerary objects. Lineal descendants or representatives of any Indian tribe or Native Hawaiian organization not identified in this notice that wish to claim these cultural items should submit a written request to the University of Oregon Museum of Natural and Cultural History. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the University of Oregon Museum of Natural and Cultural History, at the address in this notice by January 9, 2017.

ADDRESSES: Dr. Pamela Endzweig, Director of Collections, University of Oregon Museum of Natural and Cultural History, 1224 University of Oregon, Eugene, OR 97403-1224, telephone (541) 346-5120.

SUPPLEMENTARY INFORMATION: Notice is here given in accordance with the Native American Graves Protection and Repatriation Act (NAGPRA), 25 U.S.C. 3005, of the intent to repatriate cultural items under the control of the University of Oregon Museum of Natural and Cultural History, Eugene, OR, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At an unknown date, a group of beads and other cultural items were removed from a burial site near Coos County, OR. In 1930, a private individual donated the cultural items to the University of Oregon Museum of Natural History (now designated as the Museum of Natural And Cultural History). According to accessions records, the beads were given to the donor by her sister, who “found them on an old Indian grave near Coquille, Oregon.” The catalog number assigned to this entry is attached to a string of 28 glass beads, 1 copper button, 2 buttons of undetermined material, and 1 perforated disc of ground shell or bone. A set of 30 small unstrung and unlabeled seed beads are housed with the other items and are considered to be from the same collection.

Based on the donor's information, the 62 unassociated funerary objects described above are determined to be Native American. Based on provenience, the cultural items are reasonably believed to be affiliated with the Coquille people. Historical documents, ethnographic sources, and oral history indicate that Coquille people have occupied the Coquille area of coastal Oregon since pre-contact times. The Coquille people are represented by the Coquille Indian Tribe (previously listed as the Coquille Tribe of Oregon).

Determinations Made by the University of Oregon Museum of Natural and Cultural History

Officials of the University of Oregon Museum of Natural and Cultural History have determined that:

• Pursuant to 25 U.S.C. 3001(3)(B), the 62 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Coquille Indian Tribe (previously listed as the Coquille Tribe of Oregon).

Additional Requestors and Disposition

Lineal descendants or representatives of any Indian tribe or Native Hawaiian organization not identified in this notice that wish to claim these cultural items should submit a written request with information in support of the claim to Dr. Pamela Endzweig, Director of Collections, University of Oregon Museum of Natural and Cultural History, 1224 University of Oregon, Eugene, OR 97403-1224, telephone (541) 346-5120, by January 9, 2017. After that date, if no additional claimants have come forward, transfer of control of the unassociated funerary objects to the Coquille Indian Tribe (previously listed as the Coquille Tribe of Oregon) may proceed.

The University of Oregon Museum of Natural and Cultural History is responsible for notifying the Coquille Indian Tribe (previously listed as the Coquille Tribe of Oregon); the Confederated Tribes of the Coos, Lower Umpqua and Siuslaw Indians; the Confederated Tribes of the Grand Ronde Community of Oregon; and the Confederated Tribes of Siletz Indians of Oregon (previously listed as the Confederated Tribes of the Siletz Reservation) that this notice has been published.

Dated: November 22, 2016.
Melanie O'Brien,
Manager, National NAGPRA Program.

[FR Doc. 2016-29537 Filed 12-8-16; 8:45 am]

BILLING CODE 4312-52-P